DEPARTMENT OF HOMELAND SECURITY

Coast Guard

33 CFR Part 117

[Docket No. USCG-2009-0449]

RIN 1625-AA09

Drawbridge Operation Regulation; Mermentau River, Mile 68.0, at Mermentau, Acadia and Jefferson Davis Parishes, LA

AGENCY: Coast Guard, DHS.

ACTION: Notice of temporary deviation from regulations.

SUMMARY: The Commander, Eighth Coast Guard District, has issued a temporary deviation from the regulation governing the operation of the BNSF Swing Bridge across the Mermentau River, mile 68.0, in Mermentau, Acadia and Jefferson Davis Parishes, Louisiana. The deviation is necessary to repair the pinion gear that turns the center pivot pier of the bridge. This deviation allows the bridge to remain closed for 34 hours to accomplish the work.

DATES: This deviation is effective from 5 a.m. on June 29, 2009 until 5 p.m. on June 30, 2009.

ADDRESSES: Documents mentioned in this preamble as being available in the docket are part of docket USCG-2009-0449 and are available online by going to http://www.regulations.gov, selecting the Advanced Docket Search option on the right side of the screen, inserting USCG-2009-0414 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David M. Frank, Bridge Administration Branch, Coast Guard; telephone 504-671-2128, e-mail David.M.Frank@uscg.mil. If you have questions on viewing the docket, call Renee V. Wright, Program Manager, Docket Operations, telephone 202-366-9826.

SUPPLEMENTARY INFORMATION: The BNSF Railway Company has requested a temporary deviation from the operating schedule of the BNSF Swing Bridge across the Mermentau River, mile 68.0, in Mermentau, Acadia and Jefferson Davis Parishes, Louisiana. The closure is necessary to allow for repairs to the bridge.

Presently, the bridge opens on signal for the passage of vessels. This deviation will allow the bridge to remain in the closed-to-navigation position from 7 a.m. on Monday, June 29, 2009 until 5 p.m. on Tuesday, June 30, 2009. Navigation on the waterway consists of tugs with tows, fishing vessels and recreational craft. Due to prior experience and coordination with waterway users it has been determined that this closure will not have a significant effect on these vessels.

The vertical clearance of the swing bridge in the closed-to-navigation position is 10.0 feet and unlimited in the open-to-navigation position. No alternate routes are available. As this work is proposed during hurricane season, if any storms are in the Gulf of Mexico, the work may be postponed and rescheduled.

In accordance with 33 CFR 117.35(e), the drawbridge must return to its regular operating schedule immediately at the end of the designated time period. This deviation from the operating regulations is authorized under 33 CFR 117.35.

Dated: May 28, 2009.
David M. Frank,
Bridge Administrator.

[FR Doc. E9-14550 Filed 6-19-09; 8:45 am]

BILLING CODE 4910-15-P